DEPARTMENT OF COMMERCE

National Oceanic and Atmospheric Administration

RIN 0648-XR038

Marine Mammals; File No. 23197

AGENCY: National Marine Fisheries Service (NMFS), National Oceanic and Atmospheric Administration (NOAA), Commerce.

ACTION: Notice; receipt of application.

SUMMARY: Notice is hereby given that Wildstar Films, South Parade Mansions, 71 Oakfield Road, Bristol BS8 2BB, U.K. (Responsible Party: Hugh Pearson), has applied in due form for a permit to conduct commercial photography on common dolphins (Delphinus delphis), Pacific white-sided dolphins (Lagenorhynchus obliquidens), northern right whale dolphins (Lissodelphis borealis), and California sea lions (Zalophus californianus).

DATES: Written, telefaxed, or email comments must be received on or before October 10, 2019.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film up to 2,000 common dolphins, 300 Pacific white-sided dolphins, 500 northern right whale dolphins, and 100 California sea lions off the coast of Newport, CA. Underwater video would be taken for a television documentary series on American wildlife for the National Geographic Channel. Filming could occur by vessel using a pole camera, by unmanned aircraft system, or by scuba diving. The permit would expire on December 31, 2020.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 5, 2019.
Julia Marie Harrison,
Chief, Permits and Conservation Division, Office of Protected Resources, National Marine Fisheries Service.

[FR Doc. 2019-19517 Filed 9-9-19; 8:45 am]

BILLING CODE 3510-22-P